ENVIRONMENTAL PROTECTION AGENCY

40 CFR Part 60

[EPA-HQ-OAR-2012-0640] FRL-9829-3

RIN 2060-AR64

Kraft Pulp Mills NSPS Review

AGENCY: Environmental Protection Agency (EPA).

ACTION: Proposed rule; extension of public comment period.

SUMMARY: The EPA is announcing that the period for providing public comments on the May 23, 2013, proposed rule titled, “Kraft Pulp Mills NSPS Review” is being extended by 15 days.

DATES: Comments. The public comment period for the proposed rule published May 23, 2013 (78 FR 31315), is being extended by 15 days to July 23, 2013, in order to provide the public additional time to submit comments and supporting information.

ADDRESSES: Comments. Written comments on the proposed rule may be submitted to the EPA electronically, by mail, by facsimile or through hand delivery/courier. Please refer to the proposal (78 FR 31315) for the addresses and detailed instructions.

Docket. Publicly available documents relevant to this action are available for public inspection either electronically at http://www.regulations.gov or in hard copy at the EPA Docket Center, Room 3334, 1301 Constitution Ave. NW., Washington, DC. The Public Reading Room is open from 8:30 a.m. to 4:30 p.m., Monday through Friday, excluding legal holidays. A reasonable fee may be charged for copying. The EPA has established the official public docket No. EPA-HQ-OAR-2012-0640.

World Wide Web. The EPA Web site containing information for this rulemaking is: http://www.epa.gov/ttn/atw/pulp/pulppg.html.

FOR FURTHER INFORMATION CONTACT: Dr. Kelley Spence, Natural Resources Group (E143-03), Sector Policies and Programs Division, Office of Air Quality Planning and Standards, U.S. Environmental Protection Agency, Research Triangle Park, North Carolina 27711; telephone number: (919) 541-3158; fax number: (919) 541-3470; and email address: spence.kelley@epa.gov.

SUPPLEMENTARY INFORMATION:

Comment Period

In response to requests from industry representatives and environmental groups, the EPA is extending the public comment period for an additional 15 days. The public comment period will end on July 23, 2013, rather than July 8, 2013.

List of Subjects in 40 CFR Part 60

Environmental protection, Administrative practice and procedure, Air pollution control, Intergovernmental relations, Reporting and recordkeeping requirements.

Dated: June 21, 2013.
Gina McCarthy,
Assistant Administrator, Office of Air and Radiation.

[FR Doc. 2013-15609 Filed 6-27-13; 8:45 am]

BILLING CODE 6560-50-P